FEDERAL COMMUNICATIONS COMMISSION

[Report No. AUC-06-66-C (Auction No. 66); FCC 06-71; AU Docket No. 06-30]

Auction of Advanced Wireless Services Licenses Rescheduled for August 9, 2006, Revised Schedule, Filing Requirements and Supplemental Procedures for Auction No. 66

AGENCY: Federal Communications Commission.

ACTION: Notice.

SUMMARY: This document announces the revised schedule, filing requirement and supplemental procedures for the upcoming auction of Advanced Wireless Service licenses (Auction No. 66).

DATES: Auction No. 66 is scheduled to begin on August 9, 2006. Short-form applications to participate in Auction No. 66 must be submitted by June 19, 2006.

FOR FURTHER INFORMATION CONTACT: Auctions and Spectrum Access Division, Wireless Telecommunications Bureau: for legal questions: Scott Mackoul at (202) 418-0660, for general auction questions: Lisa Stover at (717) 338-2888. Broadband Division: For legal and technical questions: David Hu and John Spencer at (202) 418-0200 and for licensing questions: Beth Fishel at (717) 338-2649.

SUPPLEMENTARY INFORMATION: This is a summary of the Auction No. 66 Supplemental Procedures Public Notice released on May 19, 2006. The complete text of the Auction No. 66 Supplemental Procedures Public Notice, including attachments and related Commission documents, is available for public inspection and copying from 8 a.m. to 4:30 p.m. Monday through Thursday or from 8 a.m. to 11:30 a.m. on Friday at the FCC Reference Information Center, Portals II, 445 12th Street, SW., Room CY-A257, Washington, DC 20554. The Auction No. 66 Supplemental Procedures Public Notice and related Commission documents may also be purchased from the Commission's duplicating contractor, Best Copy and Printing, Inc. (BCPI), Portals II, 445 12th Street, SW., Room CY-B402, Washington, DC 20554, telephone 202-488-5300, facsimile 202-488-5563, or you may contact BCPI at its Web site: http://www.BCPIWEB.com. Remember when ordering documents from BCPI please provide the appropriate FCC document number (for example FCC 06-71). The Auction No. 66 Supplemental Procedures Public Notice and related documents are also available on the Internet at the Commission's Web site at: http://wireless.fcc.gov/auctions/66/.

I. Introduction

1. The Federal Communications Commission (Commission) announces the revised schedule, filing requirements and supplemental procedures for the upcoming auction (Auction No. 66) of Advanced Wireless Services licenses in the 1710-1755 MHz and 2110-2155 MHz bands (AWS-1) to provide applicants additional time for preparation and planning. With the exception of the changes set forth in the Auction No. 66 Supplemental Procedures Public Notice, the Commission's procedures, terms and conditions previously announced in the Auction No. 66 Procedures Public Notice, 71 FR 20672, (April 21, 2006), will apply in Auction No. 66.

II. Rescheduled Auction Start Date and Pre-Auction Dates

A. Auction Date

2. Bidding in Auction No. 66 will begin on Wednesday, August 9, 2006. The initial schedule for bidding will be announced by public notice at least one week before the start of the auction.

B. Pre-Auction Dates and Deadlines

3. In light of the new Auction Date, the Commission extends the deadline for participants to file a short-form application (FCC Form 175) to participate in the auction, and revises other pre-auction dates and deadlines as follows:

Short-Form Application (FCC Form 175): Filing Window Opens June 5, 2006; 12 p.m. ET

Short-Form Application (FCC Form 175): Filing Window Deadline June 19, 2006; 6 p.m. ET

Upfront Payments (via wire transfer): July 17, 2006; 6 p.m. ET

Mock Auction: August 7, 2006

Auction Begins: August 9, 2006

C. Requirements for Participation

4. Those wishing to participate in Auction No. 66 must: (a) Submit a short-form application (FCC Form 175) electronically prior to 6 p.m. eastern time (ET), June 19, 2006, following the electronic filing procedures set forth in Attachment D to the Auction No. 66 Procedures Public Notice; (b) submit a sufficient upfront payment and an FCC Remittance Advice Form (FCC Form 159) before 6 p.m. ET, July 17, 2006; and (c) comply with all provisions outlined in the Auction No. 66 Procedures Public Notice, the Auction No. 66 Supplemental Procedure Public Notice and applicable Commission rules.

III. Short-Form Application (FCC Form 175) Filing Requirements

5. Except as set forth in the Auction No. 66 Supplemental Procedures Public Notice, the short-form application (FCC Form 175) requirements previously announced in the Auction No. 66 Procedures Public Notice will apply in Auction No. 66.

A. Effect of New Short-Form Application Filing Deadline

6. Any party, whether it wishes to claim designated entity benefits or not, may submit a short-form application to participate in Auction No. 66 by the June 19, 2006, deadline, regardless of whether that party previously submitted an application pursuant to the prior deadline, once the short-form application filing window opens on June 5, 2006.

7. Any party that previously submitted a short-form application pursuant to the prior deadline may use the application previously submitted, subject to compliance with newly effective Commission rules; may change any or all of the information in a previously submitted short-form application; may withdraw a previously submitted short-form application; and may create and submit a new short-form application in place of a withdrawn application. Applications may be withdrawn by using the withdraw application function of the Auction Application Manager.

8. All applicants, particularly those that choose to retain their current applications on file, are reminded to review all information contained in their applications, including all information that may have been automatically entered, to confirm that it is complete and accurate as of the new deadline for filing the short-form application. If a party that previously submitted a short-form application pursuant to the prior deadline chooses to retain its current application on file and determines that it is still complete and will be accurate as of the new filing deadline for short-form applications, the party does not need to resubmit the application.

9. Since the Commission's collusion prohibitions set forth in section 1.2104(c) (the anti-collusion rule) are not triggered until after the short-form application filing deadline, the release of the Auction No. 66 Supplemental Procedures Public Notice extending this deadline has the effect of lifting the prohibitions until the short-form filing period expires on June 19, 2006. (These prohibitions had been in effect since the expiration of the prior short-form filing application period on May 10, 2006.) After the new short-form filing deadline on June 19, 2006, the prohibitions of the anti-collusion rule will again apply. Although the prohibitions of the Commission's anti-collusion rule are not triggered until the new short-form filing deadline, applicants have continuing obligations to avoid anti-competitive behavior, including communications about auction plans or applications that might have anti-competitive effects. As noted in the Auction No. 66 Procedures Public Notice, regardless of compliance with the Commission's rules, applicants remain subject to the antitrust laws, which are designed to prevent anticompetitive behavior in the marketplace.

B. Short-Form Application Certification of Compliance With Commission Rules

10. Applicants that submit short-form applications to participate in Auction No. 66 by the June 19, 2006, deadline are reminded that their application must be in compliance with Commission rules as of that date, regardless of whether the short-form application was previously submitted on an earlier date and regardless of whether there has been any change in circumstances between the date of submission and the short-form application deadline.

11. Applicants are reminded that they must comply with the various certifications required in the short-form application pursuant to Commission rules. Applicants are required to be in compliance with the certifications, made by a person with authority to bind the applicant, as of the deadline for filing the short-form applications. Applicants must assure the accuracy of these certifications as of the deadline.

12. Applicants are strongly cautioned to avoid any statements or disclosures that may violate the Commission's anti-collusion rule, particularly in light of the Commission's procedures regarding the availability of certain information in Auction No. 66. Applicants should carefully review the Auction No. 66 Procedures Public Notice with respect to both the prohibition of collusion and the information available to bidders before and during the auction.

C. Designated Entity Applicant Certification of Compliance With Rules Effective as of Short-Form Filing Window Deadline

13. The Commission adopted new rules governing eligibility for designated entity benefits in the Designated Entity Second Report and Order, 71 FR 26245 (May 4, 2006). In the Designated Entity Second Report and Order, the Commission stated that applicants seeking to participate in Auction No. 66 as designated entities would be required to amend their applications for that auction on or after the effective date of the rule changes with a statement declaring, under penalty of perjury, that the applicant is qualified as a designated entity pursuant to section 1.2110 of the Commission's rules effective as of the date of the statement. The Commission adopted and released the new rules on April 25, 2006, and published the new rules in the Federal Register on May 4, 2006. The new rules will become effective on June 3, 2006.

14. The Commission's rules require, and the short-form application provides, that any applicant applying as a designated entity certify that the applicant is qualified as a designated entity under the Commission's rules. Pursuant to the new schedule for Auction No. 66, applicants to participate in Auction No. 66 must file a short-form application by June 19, 2006, which is after the effective date of the Commission's new rules governing eligibility for designated entity benefits. Applicants may withdraw, or effectively delete, any application that has been submitted until that deadline occurs. It is no longer necessary for entities applying as designated entities to amend their applications as described in the Designated Entity Second Report and Order. The certification made as part of the short-form application will constitute a certification by any applicant applying as a designated entity that the applicant will be qualified as a designated entity pursuant to the Commission's rules as of the June 19, 2006, deadline for filing the short-form application, regardless of the date on which the applicant submits the application. Applicants that previously certified their designated entity eligibility must revise their application and resubmit or withdraw by the filing deadline of June 19, 2006 if they will not be qualified pursuant to the Commission's rules as of that deadline.

D. Additional Information Required in Short-Form Application From Designated Entity Applicants Pursuant to Newly Effective Rules

15. The Commission's new rules regarding applicants seeking eligibility for designated entity benefits requires the disclosure of information not previously required on a short-form application. Applicants must submit all information required to be disclosed on the applicant's application to participate in the auction pursuant to Commission rules in effect as of the deadline for submitting the short-form applications in order to qualify as a designated entity. Such information includes disclosures required pursuant to newly effective section 1.2112 as adopted in the Designated Entity Second Report and Order: (a) a list of all parties with which the applicant has entered into arrangements for the lease or resale (including wholesale agreements) of any of the capacity of any of the applicant's spectrum; and (b) a list, separately and in the aggregate, of the gross revenues of entities with which the applicant has an attributable material relationship, as defined in section 1.2110(b)(3)(iv)(B). Failure to provide any additional information required under the designated entity rules effective as of the deadline for filing a short-form application may result in the applicant being ineligible to qualify as a designated entity.

16. An applicant may provide information not previously required on FCC Form 175 by including the information in an attachment to the application. When uploading an attachment providing information required by the newly effective designated entity rules, applicants should identify the attachment type as: Other.

IV. Information Regarding Bidders' Own Round Results

17. Applicants are reminded that Auction No. 66 may be conducted pursuant to procedures that limit the information available prior to and during the auction. If Auction No. 66 is conducted with limited information released prior to and during the auction, two types of reports will be available to bidders: (1) Publicly-available information and (2) bidder-specific information available only to that bidder when logged in to the FCC Auction System.

18. The public information will be available on the FCC Auction System results page that will list for each license the following information: the provisionally winning bid amount, the minimum acceptable bid amount for the next round, the number of bids received in the most recently-completed round, and whether the license has a provisionally winning bid or is held by the FCC.

19. When a bidder is logged in to the FCC Auction System, it will have a selection of My Bid Reports available to it on the FCC Auction System's bidding page. Information in My Bid Reports allows only the respective bidder to view all of its actions in the current and previous rounds of the auction.

Federal Communications Commission.
Gary D. Michaels,
Deputy Chief, Auctions and Spectrum Access Division, WTB.

[FR Doc. 06-5084 Filed 6-1-06; 8:45 am]

BILLING CODE 6712-01-P